DEPARTMENT OF THE INTERIOR

Bureau of Land Management

[MT-060-1220DH-01]

Notice of Intent

AGENCY: Bureau of Land Management, Interior.

ACTION: Notice.

SUMMARY: Notice is hereby given that the Bureau of Land Management (BLM) is proposing to amend the West HiLine Resource Management Plan (RMP) for public lands in an area known as Loma/Vimy Ridge located in Chouteau County, Montana. The BLM is proposing to amend the off-road vehicle (ORV) designation for the public lands that are currently open seasonally or yearlong to motorized cross-country travel and designate the area as limited yearlong and also designate the roads and trails open to motorized vehicles. An environmental assessment will be prepared by the Havre Field Station to analyze the impacts of this proposal and any alternatives.

DATES: Comments and recommendations on this notice should be received on or before August 9, 2001.

ADDRESSES: Address all comments concerning this notice to: Bureau of Land Management, Attention: Jody Peters, Havre Field Station, 1704 2nd Street West, Drawer 911, Havre, MT 59501.

FOR FURTHER INFORMATION CONTACT: Jody Peters, 406-262-2832.

SUPPLEMENTARY INFORMATION: The Loma/Vimy Ridge Watershed planning effort would implement decisions of the West HiLine RMP, the Upper Missouri National Wild and Scenic River Plan, the Wood River Ranch Habitat Management Plan, and the Standards for Rangeland Health and Guidelines for Livestock Grazing Management. The Loma/Vimy Ridge Watershed consists of two large blocks of public land located on or adjacent to Rowe Bench and Vimy Ridge, in Chouteau County, Montana. These lands are the high grounds between the Missouri, Teton, and Marias Rivers, where they converge. The land is in north central Montana about ½ mile west of Loma and 11 miles northeast of Fort Benton. Surface ownership consists of approximately 11,450 acres of public land.

About 850 acres of public land are currently designated as open to ORV use, 7,950 acres are designated as limited seasonally, and 2,650 acres are within the Upper Missouri River Breaks National Monument where all motorized vehicle use off road is prohibited except for emergency or authorized purposes. Through the watershed planning for this area the BLM is proposing to change the open and limited seasonally designations to limited yearlong. The watershed plan will include a map showing the transportation network of roads and trails available for use under the terms and conditions set forth in the plan amendment.

(Authority: Sec. 202, Pub. L. 94-579, 90 Stat. 2747 (43 U.S.C. 1712)).
Dated: April 23, 2001.
Owen Billingsley,
Bureau of Land Management.

[FR Doc. 01-17135 Filed 7-9-01; 8:45 am]

BILLING CODE 4310-DN-P